DEPARTMENT OF COMMERCE

National Oceanic and Atmospheric Administration

[RTID 0648-XA038]

North Pacific Fishery Management Council; Public Meeting

AGENCY: National Marine Fisheries Service (NMFS), National Oceanic and Atmospheric Administration (NOAA), Commerce.

ACTION: Notice of public meeting.

SUMMARY: The North Pacific Fishery Management Council (Council) Bering Sea Fishery Ecosystem Plan Climate Change Taskforce will meet February 26, 2020 through February 28, 2020.

DATES: The meeting will be held on Wednesday, February 26, 2020, from 9 a.m. to 4 p.m., from 9 a.m. to 4 p.m. on February 27, 2020 and from 9 a.m. to 4 p.m. on February 28, 2020, Alaska Standard Time.

ADDRESSES: The meeting will be held both in Anchorage and Seattle at the following locations: North Pacific Fishery Management Council, 1007 West Third Ave., Suite 400, and at the Alaska Fishery Science Center (room TBD), 7600 Sand Point Way NE, Building 4, Seattle, WA 98115. For those unable to attend the meeting in person, you can access the meeting via audio/video conferencing. Access information posted at https://meetings.npfmc.org/Meeting/Details/1303 prior to the meeting, along with meeting materials.

Council address: North Pacific Fishery Management Council, 1007 W 3rd Ave, Anchorage, AK 99501-2252; telephone: (907) 271-2809.

FOR FURTHER INFORMATION CONTACT: Diana Stram, Council staff; telephone: (907) 271-2806.

SUPPLEMENTARY INFORMATION:

Agenda

Wednesday, February 26, 2020 Through Friday, February 28, 2020

The agenda will include (a) develop conceptual framework; (b) revise workplan and develop one page briefing reports in preparation for climate knowledge briefing in May; (c) begin development of ecological and socio economic indicators of climate change; (d) other business. The agenda is subject to change, and the latest version will be posted at https://meetings.npfmc.org/Meeting/Details/1303 prior to the meeting, along with meeting materials.

Public Comment

Public comment letters will be accepted and should be submitted either electronically to https://meetings.npfmc.org/Meeting/Details/1303 or through the mail: North Pacific Fishery Management Council, North Pacific Fishery Management Council, 1007 W 3rd Ave, Anchorage, AK 99501-2252; telephone (907) 271-2809.

Special Accommodations

These meetings are physically accessible to people with disabilities. Requests for sign language interpretation or other auxiliary aids should be directed to Shannon Gleason at (907) 271-2809 at least 7 working days prior to the meeting date.

Authority: 16 U.S.C. 1801 et seq.

Dated: February 7, 2020.
Tracey L. Thompson,
Acting Deputy Director, Office of Sustainable Fisheries, National Marine Fisheries Service.

[FR Doc. 2020-02799 Filed 2-11-20; 8:45 am]

BILLING CODE 3510-22-P